DEPARTMENT OF JUSTICE

Notice of Lodging of Consent Decree Under the Clean Air Act

Pursuant to 28 CFR 50.7, notice is hereby given that on January 25, 2010, a proposed Consent Decree in United States of America, et al. v. Westar Energy, Inc., Civil Action No. 2:09-CV-2059-JAR-DJW, was lodged with the United States District Court for the District of Kansas.

The Consent Decree would resolve claims asserted by the United States against Westar Energy (“Westar”) pursuant to Sections 113(b) and 167 of the Clean Air Act (the “Act”), 42 U.S.C. 7413(b) and 7477, seeking injunctive relief and the assessment of civil penalties for Westar's violations of:

(a) The Prevention of Significant Deterioration (“PSD”) provisions in Part C of Subchapter I of the Act, 42 U.S.C. 7470-92;

(b) The New Source Performance Standards (“NSPS”) provisions of the Act, 42 U.S.C. 7411;

(c) Title V of the Act, 42 U.S.C. 7661 et seq.; and

(d) The federally-enforceable State Implementation Plan (“SIP”) developed by the State of Kansas.

Westar operates three coal-fired power plants in Kansas. One of those plants, the Jeffrey Energy Center (“Jeffrey Plant”), has three electric generating units and is located near St. Marys in Pottawatomie County, Kansas. Only the Jeffrey Plant is the subject of this settlement. The complaint filed by the United States alleges that Westar modified and thereafter operated all three units at the Jeffrey Plant without complying with the PSD requirements of the Act (including the requirements to first obtain a PSD permit authorizing the modifications and to install and operate the best available control technology to control emissions of sulfur dioxide (“SO2”), nitrogen oxides (“NOX”), and/or particulate matter (“PM”)). The complaint also alleges that Westar violated Title V of the Act by failing to include the PSD requirements triggered by its modifications in its Title V operating permit for the Jeffrey Plant.

The proposed Consent Decree would require Westar to reduce SO2, NOX and PM emissions at all three Jeffrey Units through the installation, upgrade, and/or operation of pollution control technologies. In addition, the proposed complaint would require Westar to spend $6 million on environmental mitigation projects, namely retrofitting diesel engines to reduce emissions from vehicles owned by or operated for public entities in Kansas with emission control equipment, installing new wind turbines that provide electricity for the benefit of schools or non-profits, installing advanced truck stop electrification, installing plug-in hybrid infrastructure, and converting vehicles in Westar's fleet by retrofitting diesel vehicles and purchasing hybrid vehicles. Finally, the proposed Consent Decree would require Westar to pay a $3 million civil penalty. The State of Kansas has joined the settlement as co-plaintiff.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States of America, et al. v. Westar Energy, Inc., D.J. Ref. 90-5-2-1-08242.

The Consent Decree may be examined at the Office of the United States Attorney for the District of Kansas, 500 State Avenue, Suite 360, Kansas City, KS 66101, and at U.S. EPA Region 7, 901 N. 5th Street, Kansas City, KS 66101. During the public comment period, the Consent Decree may also be examined on the following Department of Justice Web site, http://www.usdoj.gov/enrd/ConsentDecrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-1773 Filed 1-28-10; 8:45 am]

BILLING CODE 4410-15-P